DEPARTMENT OF TRANSPORTATION

Bureau of Transportation Statistics

Agency Information Collection Activities; Proposals, Submissions, and Approvals; Annual Tank Car Facility Survey

AGENCY: Bureau of Transportation Statistics (BTS), U. S. Department of Transportation (DOT).

ACTION: Notice and Request for Comments.

SUMMARY: In accordance with the requirements of the Paperwork Reduction Act of 1995, this notice announces the intention of the Bureau of Transportation Statistics (BTS) to request the Office of Management and Budget's (OMB) approval of an extension for an information collection from tank car facilities to obtain an estimate of tank cars projected to be modified or built to the new safer Department of Transportation (DOT) standards. A summary report of survey findings will be submitted to Congress and published by BTS on the BTS web page.

DATES: Comments must be submitted on or before June 9, 2021.

FOR FURTHER INFORMATION CONTACT: Clara Reschovsky, (202) 366-2857, Tank Car Facility Survey Project Manager, BTS, OST-R, Department of Transportation, 1200 New Jersey Ave. SE, Room E36-324, Washington, DC 20590. Office hours are from 8:30 a.m. to 5:00 p.m., E.T., Monday through Friday, except Federal holidays.

SUPPLEMENTARY INFORMATION:

Title: Annual Tank Car Facility Survey.

Type of Request: Approval for an extension of an existing information collection.

Affected Public: There are approximately 175 tank car facilities with the capacity to manufacture or retrofit tank cars capable of carrying Class 3 flammable liquids nationwide.

Abstract: Section 7308(c) of the Fixing America's Surface Transportation Act (Pub. L. 114-94; the “FAST Act”) directs the Secretary of Transportation to conduct a survey of tank car facilities to obtain an estimate of tank cars projected to be modified or built to the new safer Department of Transportation (DOT) Specification 117 or 117R. Over time, this data collection has and will continue to inform Congress as well as the Department of Transportation as to industry's progress in upgrading the nation's fleet of rail cars to be safer in the event of an incident involving tank cars carrying Class 3 Flammable liquids. BTS has been collecting and intends to continue to collect information from tank car retrofitting and manufacturing facilities on the planned and projected number of tank cars to be retrofitted or manufactured beginning the next calendar year and annually thereafter until 2029. Any facility identified with the capacity to modify or build new tank cars to the 117 or 117R specification, as described in Section 7308(c) of the FAST Act will be included in the survey identified in this notice and is requested to submit the results to the Bureau of Transportation Statistics (BTS) no later than 60 days upon request. This will be a voluntary data collection. Individual responses to the survey will be kept confidential and a summary report of aggregate findings will be provided to:

(1) The Committee on Commerce, Science, and Transportation of the Senate; and

(2) The Committee on Transportation and Infrastructure of the House of Representatives.

In addition, this summary report will also be published to the BTS web page.

Data Confidentiality Provisions: The Annual Tank Car Facility Survey may collect confidential business information. The confidentiality of these data will be protected under Title V of the E-Government Act, the Confidential Information Protection and Statistical Efficiency Act of 2002 (CIPSEA). In accordance with this legislation, individual responses will not be disclosed in any direct or indirect manner and only aggregated statistical information will be made available through reports.

Frequency: This survey will be updated every year until 2029.

Estimated Average Burden per Response: The burden per respondent is estimated to be an average of 30 minutes. This includes the time required to gather records as well as respond to the survey.

Estimated Total Annual Burden: Across the nation there are approximately 400 tank car facilities that are currently registered or certified to build or modify tank cars. However, the majority of these do not have the capacity to modify or build to the 117 or 117R Specifications. It is estimated that, at most, 175 tank car shops possess the required capacity to build or modify to these new safer requirements. The total annual burden is estimated to be 87.5 hours (that is 30 minutes per respondent for 175 respondents equals 5,250 minutes).

Response to Comments: A 60-day notice requesting public comment was issued in the Federal Register on January 11, 2021 (Volume 86, Number 6; pages 2030-2031). No comments were received.

Public Comments Invited: Interested parties are invited to send comments regarding any aspect of this information collection, including, but not limited to: (1) The necessity and utility of the information collection for the proper performance of the functions of the DOT; (2) the accuracy of the estimated burden; (3) ways to enhance the quality, utility, clarity and content of the collected information; and (4) ways to minimize the collection burden without reducing the quality of the collected information. Send comments to the Office of Information and Regulatory Affairs, Office of Management and Budget, 725-17th Street NW, Washington, DC 20503, Attention: BTS Desk Officer.

Issued in Washington, DC, on this 5th day of May, 2021.
Cha-Chi Fan,
Director, Office of Data Development and Standards, Bureau of Transportation Statistics, Office of the Assistant Secretary for Research and Technology.

[FR Doc. 2021-09816 Filed 5-7-21; 8:45 am]

BILLING CODE 4910-9X-P